GENERAL SERVICES ADMINISTRATION

Notice of Availability

The General Services Administration (GSA) has prepared a Record of Decision as the final document in the Environmental Impact Statement process for the renovation of the Tecate Port of Entry, Tecate, California. This project is designed to relocate the commercial operations, improve the working conditions for the U.S. Customs Service and U.S. Immigration and Naturalization Service, and improve the water systems on the port. For a copy of the Record of Decision contact: General Services Administration, 450 Golden Gate, Portfolio Division, San Francisco, California 94102, Attn: Rosanne Nieto, Phone: (415) 522-3490.

Arlin M. Timberlake,
Director, Portfolio Division, Public Buildings Service, General Services Administration.

[FR Doc. 00-1003 Filed 1-14-00; 8:45 am]

BILLING CODE 6820-BR-M